ENVIRONMENTAL PROTECTION AGENCY

[EPA-HQ-OAR-2018-0226; FRL-9989-06-OAR]

RIN 2060-AT97

Public Hearing and Reopening of Comment Period for Proposed Determinations of Attainment by the Attainment Date, Extensions of the Attainment Date and Reclassification of Several Areas Classified as Moderate for the 2008 Ozone National Ambient Air Quality Standards

AGENCY: Environmental Protection Agency (EPA).

ACTION: Notice of public hearing and reopening of public comment period.

SUMMARY: On November 14, 2018, the Environmental Protection Agency (EPA) proposed a rule titled “Determinations of Attainment by the Attainment Date, Extensions of the Attainment Date and Reclassification of Several Areas Classified as Moderate for the 2008 Ozone National Ambient Air Quality Standards,” which allowed for a 30-day public review and comment period that closed on December 14, 2018. In the proposal, the EPA offered to hold a public hearing if one was requested by November 29, 2018. The EPA received multiple requests for a public hearing, and, therefore, is announcing in this notice details for a scheduled public hearing. The hearing will provide the public with an opportunity to present oral testimony on the proposal. In addition, the EPA is reopening the public comment period on the proposed rule. The additional comment period will ensure the public has sufficient time to comment on the proceedings of the public hearing and the proposal.

DATES: The public hearing will be held on Friday, February 15, 2019, from 9 a.m. until 5 p.m. Eastern Standard Time (EST). The public comment period for the proposal will reopen beginning on the date this notice is published in the Federal Register and will close 7 days following the public hearing, on February 22, 2019.

ADDRESSES: The public hearing will be held at the William Jefferson Clinton East Building, 1301 Constitution Avenue NW, Washington, DC 20004, in Room 1153. Individuals planning to attend or testify at the hearing should be prepared to show valid picture identification, such as a driver's license, to the security staff to gain access to the meeting room (see under SUPPLEMENTARY INFORMATION the subsection, “Identification Requirements Under the REAL ID Act”).

FOR FURTHER INFORMATION CONTACT: If you have any questions about the public hearing, you may contact Ms. Yvonne W. Johnson at (919) 541-3921 or johnson.yvonnew@epa.gov. If you need further information about this notice or the proposed rule, please contact Ms. Virginia Raps, Office of Air Quality Planning and Standards (OAQPS), Air Quality Policy Division, U.S. Environmental Protection Agency, Mail Code C539-01, Research Triangle Park, NC 27711; telephone number: (919) 541-4383; fax number: (919) 541-5315; email: raps.virginia@epa.gov.

Please note that any updates made to any aspect of the hearing will be posted online at https://www.epa.gov/ground-level-ozone-pollution/2008-ozone-national-ambient-air-quality-standards-naaqs-nonattainment. While the EPA expects the hearing to go forward as set forth under DATES, please monitor the website or contact Ms. Yvonne W. Johnson at (919) 541-3921 or johnson.yvonnew@epa.gov. The EPA does not intend to publish a document in the Federal Register announcing updates.

SUPPLEMENTARY INFORMATION: On November 14, 2018, the EPA proposed to make determinations for eleven areas classified as Moderate nonattainment for the 2008 ozone National Ambient Air Quality Standards (NAAQS) and determine whether each area attained the standards by the attainment date, July 20, 2018 (see 83 FR 56781). The EPA proposed to determine attainment by the attainment date, grant attainment date extensions, or identify areas that will be reclassified, by operation of law, from Moderate to Serious nonattainment for failure to attain the standards. The EPA also proposed new State Implementation Plan (SIP) due dates for the seven areas that failed to attain the standards by the attainment date. In its proposal, the EPA offered to hold a public hearing to hear public testimony on the proposal if one was requested by November 29, 2018. The EPA received multiple requests for a public hearing that are posted in the docket for the rulemaking (EPA-HQ-OAR-2018-0226).

Testifying at the Public Hearing. If you would like to present oral testimony at the public hearing, please register by contacting Ms. Yvonne W. Johnson at (919) 541-3921 or johnson.yvonnew@epa.gov. The hearing schedule, including the list of speakers, periodic breaks in the testimony throughout the day, and a lunch hour will be posted prior to the hearing on the EPA's website at https://www.epa.gov/ground-level-ozone-pollution/2008-ozone-national-ambient-air-quality-standards-naaqs-nonattainment. The EPA will make every effort to follow the schedule as closely as possible on the day of the hearing by limiting each testimony to 5 minutes. The EPA will make every effort to accommodate all individuals interested in providing oral testimony at the hearing. The EPA will not respond to presentations at the hearing. However, the EPA may ask clarifying questions during oral testimony. The hearing will end at 5:00 p.m. EST or 2 hours after the end of testimony from the last registered speaker, whichever is earlier. A verbatim transcript of the hearing will be included in the docket for the rulemaking.

Instructions to Provide a Copy of Testimony Prior to the Hearing. The EPA encourages those planning to present oral testimony at the hearing to provide the EPA with a copy of their testimony electronically, i.e., via email or in hard copy form. You may provide a copy of the oral testimony to Ms. Yvonne W. Johnson at johnson.yvonnew@epa.gov, or you may contact Ms. Virginia Raps at raps.virginia@epa.gov.

Instructions for Submitting Comments During the Reopened Comment Period. Comments on the proceedings of the public hearing may be submitted to the EPA until the end of the reopened comment period, February 22, 2019, which is seven days following the scheduled hearing date. When submitting your comments during the reopened comment period, identify your comments by noting the docket identification—EPA-HQ-OAR-2018-0226—and include discussion of all points you wish to make. The EPA will generally not consider comments located outside your primary submission (e.g., on the Web, Cloud, or other file sharing system). Follow the online instructions to post your comment to the federal eRulemaking Portal: https://www.regulations.gov. Your written comment, as submitted online, is considered the official comment, and your comment cannot be edited or withdrawn after submission. Written statements and supporting information submitted during the reopened comment period will be considered with the same weight as any oral testimony or supporting information presented at the public hearing. The EPA may publish any comment received to its public docket. Do not submit electronically any information you consider to be Confidential Business Information (CBI) or other information whose disclosure is restricted by statute. Multimedia submissions (audio, video, etc.) must be accompanied by a written comment. For additional submission methods, the full EPA public comment policy, information about CBI or multimedia submissions, and general guidance on making effective comments, please visit https://www2.epa.gov/dockets/commenting-epa-dockets.

How to obtain copies of this document and other related information. The EPA has established a docket for this action—EPA-HQ-OAR-2018-0226—and an index of the contents of the docket can be accessed at https://www.regulations.gov. The EPA has also made available information related to the proposed rule on the following website: https://www.epa.gov/ground-level-ozone-pollution/2008-ozone-national-ambient-air-quality-standards-naaqs-nonattainment.

Identification requirements under the REAL ID Act. Individuals possessing a driver's license from states and territories that do not comply with the REAL ID Act will not be accepted as identification to allow entrance into the Federal building in which the hearing will be held. The REAL ID Act, passed by Congress in 2005, established new requirements for entering federal facilities. These requirements took effect on July 21, 2014. Acceptable alternative forms of identification include: Passports, enhanced driver's licenses, military identification cards and Federal employee badges. For additional information for the status of your state regarding the REAL ID Act, go to https://www.dhs.gov/real-id. For additional information on building access and alternative forms of identification, go to https://www.epa.gov/aboutepa/visiting-epa-headquarters.

Docket Access. All available documents are listed in the docket index at https://www.regulations.gov. Although listed in the index, some information is not publicly available, e.g., CBI or other information for which disclosure is restricted by statute. Certain other material, such as copyrighted material, will be publicly available only in hard copy. Publicly available docket materials are available electronically in https://www.regulations.gov or in hard copy at the EPA Docket Center Reading Room, William Jefferson Clinton Building, 1301 Constitution Avenue NW, Washington, DC 20004. The Public Reading Room is open from 8:30 a.m. to 4:30 p.m. EST, Monday through Friday, excluding federal holidays. The phone number for the Public Reading Room is (202) 566-1744.

Dated: February 4, 2019.
Panagiotis Tsirigotis,
Director, Office of Air Quality Planning and Standards.

[FR Doc. 2019-01562 Filed 2-7-19; 8:45 am]

BILLING CODE 6560-50-P